DEPARTMENT OF HEALTH AND HUMAN SERVICES

Centers for Medicare & Medicaid Services

[Document No. CMS-R-232, CMS-9042]

Agency Information Collection Activities: Proposed Collection; Comment Request

AGENCY: Centers for Medicare & Medicaid Services (CMMS).

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Medicare Integrity Program Organizational Conflict of Interest Disclosure Certificate and Supporting Regulations at 42 CFR 421.300-421.316; Form Number: CMS-R-232 (OMB#: 0938-0723); Use: Section 1893(d)(1) of the Social Security Act requires CMS to establish a process for identifying, evaluating, and resolving conflicts of interest. CMS proposed a process under Section 421.310 to mandate submission of pertinent information regarding conflicts of interest. The entities providing the information will be organizations that have been awarded, or seek award of, a Medicare Integrity Program contract. CMS needs this information to assess whether contractors who perform, or who seek to perform, Medicare Integrity Program functions, such as medical review, fraud review or cost audits, have organizational conflicts of interest and whether any conflicts have been resolved. Frequency: Reporting—On occasion; Affected Public: Business or other for-profit; Number of Respondents: 11; Total Annual Responses: 11; Total Annual Hours: 2,200.

2. Type of Information Collection Request: Extension of a currently approved collection; Title of Information Collection: Request for Accelerated Payments and Supporting Regulations in 42 CFR, sections 412.116, 412.632, 413.64, 413.350, and 484.245; Form Number: CMS-9042 (OMB#: 0938-0269); Use: Section 1815(a) of the Social Security Act describes payment to providers of services. 42 CFR 412.116, 42 CFR 412.632, 42 CFR 413.64, 42 CFR 413.350, and 42 CFR 484.245 define the conditions under which accelerated payments may be requested. Sections 2412.2 and 2412.3 of the Provider Reimbursement Manual identify the information that providers must supply to their intermediary to request an accelerated payment. A request for an accelerated payment can be made by a hospital, skilled nursing facility, home health agency, inpatient rehabilitation facility, critical access hospital, or hospice that is not receiving periodic interim payments. Accelerated payment request forms are used by fiscal intermediaries to assess a provider's eligibility for accelerated payments. Frequency: Reporting—On occasion; Affected Public: Business or other for-profit, Not-for-profit institutions; Number of Respondents: 822; Total Annual Responses: 822; Total Annual Hours: 411.

To obtain copies of the supporting statement and any related forms for the proposed paperwork collections referenced above, access CMS' Web Site address at http://www.cms.hhs.gov/regulations/pra/, or E-mail your request, including your address, phone number, OMB number, and CMS document identifier, to Paperwork@cms.hhs.gov, or call the Reports Clearance Office on (410) 786-1326.

To be assured consideration, comments and recommendations for the proposed information collections must be received at the address below, no later than 5 p.m. on November 22, 2005. CMS, Office of Strategic Operations and Regulatory Affairs, Division of Regulations Development, Attention: Bonnie L. Harkless, Room C4-26-05, 7500 Security Boulevard, Baltimore, Maryland 21244-1850.

Dated: September 15, 2005.
Michelle Shortt,
Director, Regulations Development Group, Office of Strategic Operations and Regulatory Affairs.

[FR Doc. 05-19068 Filed 9-22-05; 8:45 am]

BILLING CODE 4120-01-P